DEPARTMENT OF ENERGY

Federal Energy Regulatory Commission

[Project No. 12611-014]

Verdant Power, LLC; Notice Soliciting Scoping Comments

Take notice that the following hydroelectric application has been filed with the Commission and is available for public inspection.

a. Type of Application: Subsequent Minor License.

b. Project No.: 12611-014.

c. Date Filed: December 30, 2019.

d. Applicant: Verdant Power, LLC.

e. Name of Project: Roosevelt Island Tidal Energy Project (or RITE Project).

f. Location: On the East River in New York County, New York. The project does not occupy federal land.

g. Filed Pursuant to: Federal Power Act 16 U.S.C. 791 (a)-825 (r).

h. Applicant Contact: Mr. Ronald F. Smith, President and Chief Operating Officer, Verdant Power, LLC, P.O. Box 282, Roosevelt Island, New York, New York 10044. Phone: (703) 328-6842. Email: rsmith@verdantpower.com.

i. FERC Contact: Andy Bernick at (202) 502-8660 or andrew.bernick@ferc.gov.

j. Deadline for filing scoping comments: 30 days from the issuance date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-12611-014.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing pilot project license authorizes the following project facilities: (a) Thirty 35-kilowatt, 5-meter-diameter axial flow turbine-generator units; (b) ten triframe mounts, each supporting three turbine-generator units; (c) 480-volt underwater cables from each triframe mount to five shoreline switchgear vaults that interconnect to a control room and interconnection points; and (d) appurtenant facilities for navigation safety and operation.

Under the current pilot project license, which expires on December 31, 2021, Verdant installed, tested, and then removed a total of five turbine-generator units. Verdant also proposes to install three turbine-generator units attached to one triframe mount in late 2020 (i.e., Install B-1), under the existing pilot project license.

The proposed project would be constructed in three phases: Install B-1 (under the existing pilot license, as noted above), Install B-2 (three triframe mounts with a total of nine turbine-generator units), and Install C (one triframe mount with three turbine-generator units). The project would consist of a maximum of fifteen 35-kilowatt, 5-meter-diameter axial flow turbine-generator units with a total installed capacity of 0.525 megawatt. Each of the five triframe mounts would be connected via underwater cables to an existing control room and a proposed shoreline switchgear vault, and via an overhead transmission line (for the first two triframe mounts) and an underground transmission line (for the remaining three triframe mounts) to a point of interconnection.

The project would operate using the natural tidal currents of the East River, during both ebb and flood tidal periods. As the direction of tidal flow changes, each turbine-generator unit would rotate (or yaw) to align the rotor to the direction of flow, through a passive system caused by hydrodynamic forces on the turbine-generator unit. The annual generation is expected to be from 840 to 1,200 megawatt-hours.

m. In addition to publishing the full text of this document in the Federal Register, the Commission provides all interested individuals an opportunity to view and/or print the contents of this document via the internet through the Commission's Home Page (www.ferc.gov) using the eLibrary link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at https://ferconline.ferc.gov/FERCOnline.aspx to be notified via email of new filings and issuances related to this or other pending projects. For assistance, contact FERC Online Support.

o. Scoping Process.

The Commission, in cooperation with the U.S. Environmental Protection Agency, intends to prepare an environmental assessment (EA) for the RITE Project in accordance with the National Environmental Policy Act. The EA will consider both site-specific and cumulative environmental impacts and reasonable alternatives to the proposed action.

Commission staff does not propose to conduct any on-site scoping meetings at this time. Instead, we are soliciting comments, recommendations, and information, on the Scoping Document 1 (SD1) issued August 12, 2020.

Copies of SD1 outlining the subject areas to be addressed in the EA were distributed to the parties on the Commission's mailing list. Copies of SD1 may be viewed on the web at http://www.ferc.gov using the eLibrary link. Enter the docket number excluding the last three digits in the docket number field to access the document. For assistance, call 1-866-208-3676 or for TTY, (202) 502-8659.

Dated: August 12, 2020.
Kimberly D. Bose,
Secretary.

[FR Doc. 2020-17997 Filed 8-17-20; 8:45 am]

BILLING CODE 6717-01-P